NATIONAL AERONAUTICS AND SPACE ADMINISTRATION

[Notice: (22-081)]

NASA Planetary Science Advisory Committee; Meeting

AGENCY: National Aeronautics and Space Administration.

ACTION: Notice of meeting.

SUMMARY: In accordance with the Federal Advisory Committee Act, as amended, the National Aeronautics and Space Administration (NASA) announces a meeting of the Planetary Science Advisory Committee. The meeting will be held specifically to discuss reporting under the Government Performance and Results Modernization Act (GPRAMA).

DATES: Tuesday, October 18, 2022, 3:00 p.m. to 5:00 p.m., Eastern Time.

ADDRESSES: Virtual meeting via WebEx only.

FOR FURTHER INFORMATION CONTACT: Ms. KarShelia Kinard, Science Mission Directorate, NASA Headquarters, Washington, DC 20546, (202) 358-2355 or karshelia.kinard@nasa.gov.

SUPPLEMENTARY INFORMATION: As noted above, this meeting will be available to the public via WebEx only. The meeting event address for attendees is: https://nasaenterprise.webex.com/nasaenterprise/j.php?MTID=m0daf1e92352bda8593307645bc43a2ff. The Webinar number is: 2764 425 8669 and the password is H6smmpPG$72 (46766774 from phones). To join by telephone call, use US Toll: +1-415-527-5035 (Access Code: 276 442 58669).

Accessibility: Captioning will be provided for this meeting. We are committed to providing equal access to this meeting for all participants. If you need alternative formats or other reasonable accommodations, please contact Ms. KarShelia Kinard, Science Mission Directorate, NASA Headquarters, Washington, DC 20546, (202) 358-2355 or karshelia.kinard@nasa.gov.

The agenda for the meeting will include reporting under the Government Performance and Results Act Modernization Act (GPRAMA) for NASA's Planetary Science Division.

It is imperative that the meeting be held on these dates to accommodate the scheduling priorities of the key participants.

Carol Hamilton,
Acting Advisory Committee Management Officer, National Aeronautics and Space Administration.

[FR Doc. 2022-22026 Filed 10-7-22; 8:45 am]

BILLING CODE 7510-13-P